DEPARTMENT OF COMMERCE

Bureau of Industry and Security

In the Matter of: Mansour Moghtaderi Zadeh, a/k/a Mansour Zadeh, a/k/a Mita Zarek, a/k/a Mita Zadeh currently incarcerated at: Inmate Number: 43594-013, Rivers Correctional Institution, P.O. Box 630, Winton, NC 27986, and with prior known addresses at: 16 Kyraikou Matsi Ave., 3rd Floor, 1082 Nicosia, Cyprus, and Strovolou 77, Strovolos Center Suite 202, Strovolos P.C. 2018, Nicosia, Cyprus and P.O. Box 23973, 1687 Nicosia, Cyprus

Order Denying Export Privileges

On December 14, 2016, in the U.S. District Court for the District of Columbia, Mansour Moghtaderi Zadeh, a/k/a Mansour Zadeh, a/k/a Mita Zarek, a/k/a Mita Zadeh (“Zadeh”), was convicted of violating the International Emergency Economic Powers Act (50 U.S.C. 1701, et seq. (2012)) (“IEEPA”). Specifically, Zadeh was convicted of knowingly and willfully conspiring to export and cause the export of goods from the United States to Iran without the required U.S. Government authorization. The goods involved included aviation course indicators, aerospace metal sheets and rods, specialty paints and adhesives, and a fiber optic video transmitter and receiver. Zadeh's unlawful conduct included violating an underlying temporary denial order (“TDO”) that the Bureau of Industry and Security (“BIS”) had issued. The named respondents under the TDO included, among other parties, Zadeh (under his “Mita Zarek” alias) and Lavantia, Ltd., a Nicosia, Cyprus company that Zadeh owned and/or controlled. Zadeh was sentenced to 18 months in prison, 12 months of supervised release, and a special assessment of $100.00. Additionally, Zadeh forfeited $69,159.

Section 766.25 of the Regulations provides, in pertinent part, that “[t]he Director of the Office of Exporter Services, in consultation with the Director of the Office of Export Enforcement, may deny the export privileges of any person who has been convicted of a violation of the EAA [Export Administration Act], the EAR, or any order, license, or authorization issued thereunder; any regulation, license or order issued under the International Emergency Economic Powers Act (50 U.S.C. 1701-1706); 18 U.S.C. 793, 794 or 798; section 4(b) of the Internal Security Act of 1950 (50 U.S.C. 783(b)); or section 38 of the Arms Export Control Act (22 U.S.C. 2778).” 15 CFR 766.25(a); see also Section 11(h) of the EAA, 50 U.S.C. 4610(h). The denial of export privileges under this provision may be for a period of up to 10 years from the date of the conviction. 15 CFR 766.25(d); see also 50 U.S.C. 4610(h). In addition, Section 750.8 of the Regulations states that BIS's Office of Exporter Services may revoke any BIS licenses previously issued pursuant to the Export Administration Act (“EAA” or “the Act”) or the Regulations in which the person had an interest at the time of his conviction.

BIS has received notice of Zadeh's conviction for violating IEEPA, and has provided notice and an opportunity for Zadeh to make a written submission to BIS, as provided in Section 766.25 of the Regulations. BIS has received a seven-page submission from Zadeh, via his U.S. counsel.

Based upon my review, including of Zadeh's submission, and my consultations with BIS's Office of Export Enforcement, including its Director, and the facts available to BIS, I have decided to deny Zadeh's export privileges under the Regulations for a period of ten (10) years from the date of Zadeh's conviction. I have also decided to revoke all licenses issued pursuant to the Act or Regulations in which Zadeh had an interest at the time of his conviction.

Accordingly, it is hereby ordered:

First, from the date of this Order until December 14, 2026, Mansour Moghtaderi Zadeh, a/k/a Mansour Zadeh, a/k/a Mita Zarek, a/k/a Mita Zadeh, currently incarcerated at Inmate Number: 43594-013, Rivers Correctional Institution, P.O. Box 630, Winton, NC 27986, and with prior known addresses of 16 Kyraikou Matsi Ave, 3rd Floor, 1082 Nicosia, Cyprus, and Strovolou 77, Strovolos Center Suite 202, Strovolos P.C. 2018, Nicosia, Cyprus, and P.O. Box 23973, 1687 Nicosia, Cyprus, and when acting for or on his behalf, his successors, assigns, employees, agents or representatives (the “Denied Person”), may not, directly or indirectly, participate in any way in any transaction involving any commodity, software or technology (hereinafter collectively referred to as “item”) exported or to be exported from the United States that is subject to the Regulations, including, but not limited to:

A. Applying for, obtaining, or using any license, license exception, or export control document;

B. Carrying on negotiations concerning, or ordering, buying, receiving, using, selling, delivering, storing, disposing of, forwarding, transporting, financing, or otherwise servicing in any way, any transaction involving any item exported or to be exported from the United States that is subject to the Regulations, or engaging in any other activity subject to the Regulations; or

C. Benefitting in any way from any transaction involving any item exported or to be exported from the United States that is subject to the Regulations, or from any other activity subject to the Regulations.

Second, no person may, directly or indirectly, do any of the following:

A. Export or reexport to or on behalf of the Denied Person any item subject to the Regulations;

B. Take any action that facilitates the acquisition or attempted acquisition by the Denied Person of the ownership, possession or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Third, after notice and opportunity for comment as provided in Section 766.23 of the Regulations, any other person, firm, corporation, or business organization related to Zadeh by ownership, control, position of responsibility, affiliation, or other connection in the conduct of trade or business may also be made subject to the provisions of this Order in order to prevent evasion of this Order.

Fourth, in accordance with Part 756 of the Regulations, Zadeh may file an appeal of this Order with the Under Secretary of Commerce for Industry and Security. The appeal must be filed within 45 days from the date of this Order and must comply with the provisions of Part 756 of the Regulations.

Fifth, a copy of this Order shall be delivered to Zadeh and shall be published in the Federal Register.

Sixth, this Order is effective immediately and shall remain in effect until December 14, 2026.

Issued: August 10, 2017.
Karen H. Nies-Vogel,
Director, Office of Exporter Services.

[FR Doc. 2017-17369 Filed 8-16-17; 8:45 am]

BILLING CODE P